DEPARTMENT OF THE INTERIOR

National Park Service

Notice of Inventory Completion: U.S. Department of the Interior, Bureau of Land Management, Utah State Office, Salt Lake City, UT, and Southern Utah University, Cedar City, UT

AGENCY: National Park Service, Interior.

ACTION: Notice.

Notice is here given in accordance with the Native American Graves Protection and Repatriation Act (NAGPRA), 25 U.S.C. 3003, of the completion of an inventory of human remains and associated funerary objects in the control of the U.S. Department of the Interior, Bureau of Land Management, Utah State Office, Salt Lake City, UT, and in the physical custody of Southern Utah University, Cedar City, UT. The human remains and associated funerary objects were removed from six locations on Federal land managed by the Bureau of Land Management in Kane and Washington Counties in southwestern Utah.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Bureau of Land Management professional staff and by Southern Utah University repository professional staff in consultation with representatives of the Confederated Tribes of the Goshute Reservation, Nevada and Utah; Duckwater Shoshone Tribe of the Duckwater Reservation, Nevada; Ely Shoshone Tribe of Nevada; Hopi Tribe of Arizona; Kaibab Band of Paiute Indians of the Kaibab Indian Reservation, Arizona; Moapa Band of Paiute Indians of the Moapa River Indian Reservation, Nevada; Navajo Nation, Arizona, New Mexico & Utah; Northwestern Band of Shoshoni Nation of Utah (Washakie); Paiute Indian Tribe of Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; San Juan Southern Paiute Tribe of Arizona; Shoshone Tribe of the Wind River Reservation, Wyoming; Shoshone-Bannock Tribes of the Fort Hall Reservation of Idaho; Shoshone-Paiute Tribes of the Duck Valley Reservation, Nevada; Skull Valley Band of Goshute Indians of Utah; Southern Ute Indian Tribe of the Southern Ute Reservation, Colorado; Te-Moak Tribe of Western Shoshone Indians of Nevada; Ute Indian Tribe of the Uintah & Ouray Reservation, Utah; Ute Mountain Tribe of the Ute Mountain Reservation, Colorado, New Mexico & Utah; Ysleta Del Sur Pueblo of Texas; and Zuni Tribe of the Zuni Reservation, New Mexico.

In 1983, human remains representing a minimum of one individual were removed from site 42Ws392 during legally authorized data recovery efforts as part of the Quail Creek Mitigation Project, Washington County, UT. No known individual was identified. No associated funerary objects are present.

Based on ceramic and architectural styles, site organization, and other archeological information, site 42Ws392 has been identified as a multi-component Pueblo I and late Pueblo II period occupation site. The site has been assigned to the archeologically defined culture known as Virgin Anasazi, a specific regional manifestation of Puebloan culture.

In 1989, human remains representing a minimum of two individuals were removed from site 42Ws881, Little Creek Mesa, Washington County, UT, during legally authorized archeological excavations undertaken by the Southern Utah University Field School. No known individuals were identified. The 408 associated funerary objects are 1 complete ceramic vessel, 7 ceramic sherds, and 400 stone beads.

Based on ceramic and architectural styles, site organization, and other archeological information, site 42Ws881 is an Ancestral Puebloan site. The site has been assigned to the archeologically defined culture known as Virgin Anasazi, a specific regional manifestation of Puebloan culture.

In 1985 and 1988, human remains representing a minimum of four individuals were removed from site 42Ws920, Little Creek Mesa, Washington County, UT, during legally authorized archeological excavations undertaken by the Southern Utah University Field School. No known individuals were identified. The 494 associated funerary objects are 6 ceramic vessels, 2 ceramic bowls, 2 ceramic disks, 1 sandstone disk, 1 polishing stone, 3 projectile points, 2 biface tools, 2 stone drills, 1 stone knife, 2 bone awls, 1 shell artifact, 1 modified bone object, 97 lithic flakes, 1 ceramic scoop, 1 ceramic pipe fragment, and 371 ceramic sherds.

Based on ceramic and architectural styles, site organization, and other archeological information, 42Ws920 is a large, multi-component habitation site with prehistoric occupations ranging from Basketmaker III through late Pueblo II-Pueblo III periods (circa A.D. 400-800). The site has been assigned to the archeologically defined culture known as Virgin Anasazi, a specific regional manifestation of Puebloan culture.

In 1979, human remains representing a minimum of two individuals were removed from site 42Ws969 Washington County, UT, during legally authorized excavations undertaken by the Southern Utah University Field School. No known individuals were identified. The four associated funerary objects are one complete ceramic vessel, one complete ceramic jar, and two broken ceramic bowls.

Based on ceramic styles, site organization, and other available archeological information, 42Ws969 is a late Pueblo II site, dating to post-A.D. 1050. The site has been assigned to the archeologically defined culture known as Virgin Anasazi, a specific regional manifestation of Puebloan culture.

In 1985, human remains representing a minimum of one individual were recovered from site 42Ws1712 during legally authorized excavations by Bureau of Land Management archeologists that were part of data recovery prior to a land exchange in the vicinity of South Creek, Washington County, UT. No known individual was identified. No associated funerary objects are present.

Based on site organization, artifact styles, and other available archeological information, the burial dates to the early Pueblo II period (A.D. 900-1050), and has been assigned to the archeologically defined culture known as Virgin Anasazi, a specific regional manifestation of Puebloan culture.

In 1984, human remains representing a minimum of one individual were recovered from site 42Ka2664, Kitchen Corral Wash, Kane County, UT, by Bureau of Land Management archeologists. No known individual was identified. The 32 associated funerary objects are 1 ceramic jar, 1 ceramic pot, 1 ceramic bowl, 1 ceramic scoop, 1 bone awl, and 27 ceramic sherds.

Based on ceramic styles, site organization, and other available archeological information, site 42Ka2664 was occupied during late Pueblo II and Pueblo III periods (A.D. 1000-1200), and has been assigned to the archeologically defined culture known as Virgin Anasazi, a specific regional manifestation of Puebloan culture.

Oral traditions and oral histories presented by representatives of the Hopi Tribe of Arizona support affiliation with Puebloan sites in southwestern Utah in general and specifically with Virgin Anasazi sites, a specific regional manifestation of Puebloan archeology. The Virgin Anasazi sites of 42Ws392, 42Ws881, 42Ws920, 42Ws969, 42Ws1712, and 42Ka2664 are associated with the present-day Hopi Tribe of Arizona through continuities of styles of prehistoric material culture through time to historic ethnographic objects, and through technological and architectural continuities.

Officials of the U.S. Department of the Interior, Bureau of Land Management, Utah State Office have determined that, pursuant to 25 U.S.C. 3001 (9-10), the human remains described above represent the physical remains of 11 individuals of Native American ancestry. Officials of the U.S. Department of the Interior, Bureau of Land Management, Utah State Office also have determined that, pursuant to 25 U.S.C. 3001 (3)(A), the 938 objects described above are reasonably believed to have been placed with or near individual human remains at the time of death or later as part of the death rite or ceremony. Lastly, officials of the U.S. Department of the Interior, Bureau of Land Management, Utah State Office have determined that, pursuant to 25 U.S.C. 3001(2), there is a relationship of shared group identity that can be reasonably traced between the Native American human remains and associated funerary objects and the Hopi Tribe of Arizona.

Representatives of any other Indian tribe that believes itself to be culturally affiliated with the human remains and associated funerary objects should contact Garth Portillo, Bureau of Land Management, Utah State Office, Post Office Box 45155, 324 South State Street, Suite 301, Salt Lake City, UT 84145-0155, telephone (801) 539-4276, before November 12, 2004. Repatriation of the human remains and associated funerary objects to the Hopi Tribe of Arizona may proceed after that date if no additional claimants come forward.

The U.S. Department of the Interior, Bureau of Land Management, Utah State Office is responsible for notifying the Confederated Tribes of the Goshute Reservation, Nevada and Utah; Duckwater Shoshone Tribe of the Duckwater Reservation, Nevada; Ely Shoshone Tribe of Nevada; Hopi Tribe of Arizona; Kaibab Band of Paiute Indians of the Kaibab Indian Reservation, Arizona; Moapa Band of Paiute Indians of the Moapa River Indian Reservation, Nevada; Navajo Nation, Arizona, New Mexico & Utah; Northwestern Band of Shoshoni Nation of Utah (Washakie); Paiute Indian Tribe of Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; San Juan Southern Paiute Tribe of Arizona; Shoshone Tribe of the Wind River Reservation, Wyoming; Shoshone-Bannock Tribes of the Fort Hall Reservation of Idaho; Shoshone-Paiute Tribes of the Duck Valley Reservation, Nevada; Skull Valley Band of Goshute Indians of Utah; Southern Ute Indian Tribe of the Southern Ute Reservation, Colorado; Te-Moak Tribe of Western Shoshone Indians of Nevada; Ute Indian Tribe of the Uintah & Ouray Reservation, Utah; Ute Mountain Tribe of the Ute Mountain Reservation, Colorado, New Mexico & Utah; Ysleta Del Sur Pueblo of Texas; and Zuni Tribe of the Zuni Reservation, New Mexico that this notice has been published.

Dated: September 1, 2004.
Sherry Hutt,
Manager, National NAGPRA Program.

[FR Doc. 04-22835 Filed 10-8-04; 8:45 am]

BILLING CODE 4312-50-S